DEPARTMENT OF ENERGY

Federal Energy Regulatory Commission

[Project No. 12514-074]

Northern Indiana Public Service Company; Notice of Technical Conference and Public Meeting To Discuss Proposed Operational Changes at the Norway-Oakdale Project

a. Date and Time of Meetings: A technical conference will be held with Northern Indiana Public Service Company (NIPSCO), U.S. Fish and Wildlife Service, other resource agencies, and non-governmental organizations on Tuesday May 10, 2016, from 9:00 a.m. to 12:00 p.m. (EDT). A public meeting will be held Tuesday May 10, 2016, from 6:00 p.m. to 9:00 p.m. (EDT). Although the technical conference is primarily designed for resource agencies and non-governmental organizations, anyone may attend one or both of these meetings.

b. Location for both meetings: Sportsman Inn, 12340 N Upper Lakeshore Dr., Monticello, Indiana 47960. (574) 583-5133.

c. FERC Contact: Mark Pawlowski at (202) 502-6052 or email at mark.pawlowski@ferc.gov.

d. Purpose of Technical Conference: Commission staff will meet with NIPSCO, the resource agencies, and non-governmental organizations to discuss NIPSCO's proposed operational changes to protect threatened and endangered mussels in the Tippecanoe River downstream of Oakdale dam. We will discuss the several hydraulic analyses that have been performed, effects on lake levels in project reservoirs, alternatives to NIPSCO's proposal, and Commission staff's analysis in the Draft Environmental Assessment (DEA) issued October 10, 2015.

Purpose of Public Meeting: Commission staff is providing the public and other stakeholders another opportunity to provide comments on Commission staff's DEA and any alternatives to NIPSCO's proposal. Staff will be available to answer any questions on the DEA.

e. At the technical meeting resource agencies, and non-governmental organizations will participate in a technical discussion regarding NIPSCO's proposed operational changes to protect threatened and endangered mussels and alternatives to NIPSCO proposal. A summary of the technical meeting will be prepared for the Commission's public record for the project. The public meeting will be recorded by a court reporter and all statements (verbal and written) will become part of the Commission's public record for the project.

f. All local, state, and federal agencies, Indian tribes, and other interested parties are invited to attend. Please call Mark Pawlowski at (202) 502-6052 or send an email to mark.pawlowski@ferc.gov by May 6, 2016, to register to attend the morning meeting. No registration is required to attend the evening meeting.

Dated: April 11, 2016.
Nathaniel J. Davis, Sr.,
Deputy Secretary.

[FR Doc. 2016-08688 Filed 4-14-16; 8:45 am]

BILLING CODE 6717-01-P